SMALL BUSINESS ADMINISTRATION

[Disaster Declaration #15553 and #15554; New Jersey Disaster Number NJ-00048]

Presidential Declaration of a Major Disaster for Public Assistance Only for the State of New Jersey

AGENCY: U.S. Small Business Administration.

ACTION: Notice.

SUMMARY: This is a Notice of the Presidential declaration of a major disaster for Public Assistance Only for the State of New Jersey (FEMA-4368-DR), dated 06/08/2018.

Incident: Severe Winter Storm and Snowstorm.

Incident Period: 03/06/2018 through 03/07/2018.

DATES: Issued on 06/08/2018.

Physical Loan Application Deadline Date: 08/07/2018.

Economic Injury (EIDL) Loan Application Deadline Date: 03/08/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 06/08/2018, Private Non-Profit organizations that provide essential services of a governmental nature may file disaster loan applications at the address listed above or other locally announced locations.

The following areas have been determined to be adversely affected by the disaster:

Primary Counties: Bergen, Essex, Morris, Passaic, Somerset.

The Interest Rates are:

| Percent
For Physical Damage:
Non-Profit Organizations with Credit Available Elsewhere | 2.500
Non-Profit Organizations without Credit Available Elsewhere | 2.500
For Economic Injury:
Non-Profit Organizations without Credit Available Elsewhere | 2.500

The number assigned to this disaster for physical damage is 15553B and for economic injury is 155540.

(Catalog of Federal Domestic Assistance Number 59008)

Rafaela Monchek,
Acting Associate Administrator for Disaster Assistance.

[FR Doc. 2018-13109 Filed 6-18-18; 8:45 am]

BILLING CODE 8025-01-P